FEDERAL MARITIME COMMISSION

Ocean Transportation Intermediary License Applicants

Notice is hereby given that the following applicants have filed with the Federal Maritime Commission an application for license as a Non-Vessel—Operating Common Carrier and Ocean Freight Forwarder—Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, DC 20573.

Non-Vessel—Operating Common Carrier Ocean Transportation Intermediary Applicant

Rathbourne Express Inc., 72 East Suffolk Avenue, Central Islip, NY 11722. Officers: Basil Peat, President (Qualifying Individual), Nichola Peat, Vice President.

Ocean Freight Forwarder—Ocean Transportation Intermediary Applicants

American Pacific Moving Services, Inc., 1500 Industry Street, Suite 300, Everett, WA 98203. Officer: Heino Preissler, Vice President (Qualifying Individual).

Stereo International Retail and Shipping, Inc., 420 Taunton Avenue, East Providence, RI 02914. Officers: Paul J. Santos, President (Qualifying Individual), Suzette F. Santos, Vice President.

Interport Freight Systems, Inc. dba Interport Freight Systems, 12923 Cerise Avenue, Hawthorne, CA 90250. Officer: Robin Vandeveer, President (Qualifying Individual).

Dated: August 31, 2006.
Karen V. Gregory,
Assistant Secretary.

[FR Doc. E6-14721 Filed 9-5-06; 8:45 am]

BILLING CODE 6730-01-P